DEPARTMENT OF HEALTH AND HUMAN SERVICES

Centers for Disease Control and Prevention

[30DAY-04-03]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 498-1210. Send written comments to CDC, Desk Officer, Human Resources and Housing Branch, New Executive Office Building, Room 10235, Washington, DC 20503. Written comments should be received within 30 days of this notice.

Proposed Project

National Surveillance of Dialysis-Associated Diseases (0920-0033)—Revision—National Center for Infectious Diseases (NCID), Centers for Disease Control and Prevention (CDC). The Division of Healthcare Quality Promotion (DHQP, formerly CDC Hospital Infections Program), is proposing an extension of a yearly survey of dialysis practices and dialysis-associated diseases at U.S. outpatient hemodialysis centers.

The rehabilitation of individuals in the United States who suffer from chronic renal failure has been identified as an important national priority, the Federal Government made a provision in 1973 to provide financial support for chronic hemodialysis patients. CDC, DHQP and Division of Viral Hepatitis have the responsibility of formulating strategies for the control of hepatitis, bacteremia, and other hemodialysis-associated diseases. In order to devise such control measures, it is necessary to determine the extent to which the incidence of these dialysis-associated diseases changes over time. This request is to continue surveillance activities among chronic hemodialysis centers nationwide.

In addition, once control measures are recommended it is essential that such measures be monitored to determine their effectiveness. The survey is conducted once a year by a mailing to all chronic hemodialysis centers licensed by the Health Care Financing Administration. The types of dialysis practices surveyed include the use of hepatitis B vaccine in patients and staff members, the types of vascular access and dialyzers used, whether certain dialysis items are disinfected for reuse, and whether the dialysis center has any policy for insuring judicious use of antimicrobial agents. Among dialysis-associated diseases, the survey includes hepatitis B virus infection, antibody to hepatitis C virus, antibody to human immunodeficiency virus, and vancomycin-resistant enterococci. The estimated annualized burden is 3800 hours.

Respondents | Number of respondents | Number of responses/respondent | Avg. burden/response (in hours)
Chronic Hemodialysis Centers | 3,800 | 1 | 1

Dated: October 10, 2002.
Nancy E. Cheal,
Acting Associate Director for Policy, Planning and Evaluation, Centers for Disease Control and Prevention.

[FR Doc. 02-26479 Filed 10-17-02; 8:45 am]

BILLING CODE 4163-18-P